DEPARTMENT OF HOMELAND SECURITY

Federal Emergency Management Agency

[Docket ID FEMA-2018-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 28, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Dated: May 1, 2018.
David I. Maurstad,
Deputy Associate Administrator for Insurance and Mitigation (Acting), Department of Homeland Security, Federal Emergency Management Agency.

Community | Community map repository address
Grand Traverse County, Michigan (All Jurisdictions)
Docket Nos.: FEMA-B-1463 and FEMA-B-1630
Charter Township of East Bay | East Bay Township Hall, 1965 Three Mile Road North, Traverse City, MI 49696.
Charter Township of Garfield | Garfield Township Hall, 3848 Veterans Drive, Traverse City, MI 49684.
City of Traverse City | City Hall, 400 Boardman Avenue, Traverse City, MI 49684.
Grand Traverse Band of Ottawa and Chippewa Indians | Grand Traverse Band of Ottawa and Chippewa Indians Tribal Government, 2605 North West Bay Shore Drive, Peshawbestown, MI 49682.
Township of Acme | Acme Township Hall, 6042 Acme Road, Williamsburg, MI 49690.
Township of Blair | Blair Township Hall, 2121 County Road 633, Grawn, MI 49637.
Township of Green Lake | Green Lake Township Hall, 9394 10th Street, Interlochen, MI 49643.
Township of Long Lake | Long Lake Township Hall, 8870 North Long Lake Road, Traverse City, MI 49685.
Township of Paradise | Paradise Township Hall, 2300 East M113, Kingsley, MI 49649.
Township of Peninsula | Peninsula Township Hall, 13235 Center Road, Traverse City, MI 49686.
Township of Union | Union Township Hall, 5020 Fife Lake Road, Fife Lake, MI 49633.
Township of Whitewater | Whitewater Township Hall, 5777 Vinton Road, Williamsburg, MI 49690.
Village of Kingsley | Village Hall, 207 South Brownson Avenue, Kingsley, MI 49649.
Atlantic County, New Jersey (All Jurisdictions)
Docket No.: FEMA-B-1471
Borough of Buena | Buena Borough Construction and Permits Office, 616 Central Avenue, Minotola, NJ 08341.
Borough of Folsom | Borough Hall, 1700 12th Street, Folsom, NJ 08037.
Borough of Longport | Borough Hall, 2305 Atlantic Avenue, Longport, NJ 08403.
City of Absecon | City Hall, 500 Mill Road, Absecon, NJ 08201.
City of Brigantine | City Hall, 1417 West Brigantine Avenue, Brigantine, NJ 08203.
City of Linwood | Construction Office, 400 Poplar Avenue, Linwood, NJ 08221.
City of Margate City | Construction Office, 9001 Winchester Avenue, Margate City, NJ 08402.
Town of Hammonton | Town Engineer's Office, 850 South White Horse Pike, Hammonton, NJ 08037.
Township of Buena Vista | Buena Vista Township Hall, 890 Harding Highway, Buena, NJ 08310.
Township of Egg Harbor | Municipal Building, 3515 Bargaintown Road, Egg Harbor, NJ 08234.
Township of Hamilton | Hamilton Township Zoning Office, 6101 Thirteenth Street, Mays Landing, NJ 08330.
Township of Mullica | Mullica Township Hall, 4528 White Horse Pike, Elwood, NJ 08217.
Township of Weymouth | Weymouth Township Municipal Building, 45 South Jersey Avenue, Dorothy, NJ 08317.

[FR Doc. 2018-10151 Filed 5-11-18; 8:45 am]

BILLING CODE 9110-12-P